DEPARTMENT OF HEALTH AND HUMAN SERVICES

Centers for Disease Control and Prevention

[30Day-16-16KB]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Measuring Perceived Self-Escape Competencies among Underground Mineworkers—New—National Institute for Occupational Safety and Health (NIOSH), Centers for Disease Control and Prevention (CDC).

Background and Brief Description

After a thorough review of United States' underground coal mine emergency escape preparedness and response, the National Academy of Sciences (NRC, 2013) has emphasized the need to improve underground mineworkers' ability to successfully escape a mine emergency. Specifically, several mine disasters of 2006 raised a number of issues about mine emergency preparedness and response particularly as they relate to self-escape competencies. The resulting federal regulations under the MINER Act of 2006, now require all underground coal miners receive SCSR and escapeway training quarterly throughout the year and new emergency communications and tracking systems have been mandated and installed in underground coal mines.

While such improvements may have better prepared underground miners to self-escape, it has become increasingly apparent that further research and development of new strategies is needed to enhance miner emergency preparedness, particularly as it relates to competency training and assessment. A review of various reports on coal mine emergency response [MSTTC 2006, U.S. GAO 2007, West Virginia Mine Safety Technology Task Force 2006, McAteer 2006a, McAteer 2006b] offered a number of recommendations for improving training that resulted in the identification of three areas of critical importance: (1) Evaluation of competencies; (2) improved training methods; and (3) new training content.

The NAS report echoed these findings and offered more specific recommendations for future training research and development. Specifically related to this information collection project, the NAS recommends that NIOSH identify critical self-escape competencies as well as any existing gaps in miners' knowledge, skills, abilities and other attributes (KSAOs) to be addressed through future training research and development. The specific aim of the work proposed is designed, in part, to respond to the recommendations set forth by the authors of the NAS report.

The information collected will have practical utility in efforts to enhance the ability of miners to successfully escape from underground coal mines in the event of an emergency by identifying gaps in perceived competence in specific knowledge and skills in moving through the mine, avoiding dangers, and using protective equipment. This information collection will contribute to our understanding of actual miner capabilities from the perspective of the mineworkers themselves.

NIOSH researchers will visit up to 20 mine sites to obtain informed consent from volunteer participants and administer a short paper and pencil survey. The survey will include demographic questions and 27 questions related to participants' perceived confidence in their own ability to escape their mine in the event of an emergency. Data collection will occur above ground at a variety of coal mines (and other above ground facilities) to gather information from a diverse sample of mines to better reflect the variability (e.g., size, mining method, geographic location) that exists among mines and could impact self-escape procedures and resource availability. Variability in mineworker and mining site characteristics is key to generating a cross-sectional snapshot of current mineworkers' perceived self-escape competence and may reveal any potential relationships among these characteristics and perceived competence in a variety of self-escape KSAOs.

This data collection will occur once for each mine site over the next two years (after OMB approval) and is designed to gather information not previously available. This data collection instrument is not being used in any other research. The results produced are expected to lead to recommendations for emphasis in new and/or existing KSAO training and preparation as well as to inform future self-escape training and research development.

This data will be used by NIOSH's Office of Mining Safety and Health Research to improve underground coal miners' self-escape competence.

NIOSH proposes this exploratory two-year study to better characterize the current state of miner self-escape competence and to answer the following questions:

• What gaps exist between what miners are required to do for self-escape and their perceptions of their actual capabilities?

• How might miner demographics and mine-specific characteristics (e.g., size, mining method, and geographic location) relate to perceived competence in self-escape KSAOs?

Based on the results of this and other concurrent exploratory work, interventions to increase mine escape competencies will be improved and/or developed and assessed which could lead to more standardized self-escape training and assessment throughout the industry.

Participants will be underground mining personnel drawn from a variety of operating underground coal mines. Descriptive and inferential statistics on data obtained from the survey will be used quantify miner self-escape competence and to identify any statistically significant relationships among aggregated miner characteristics and perceived competence.

Finally, the data will serve as a gross baseline measure of miner self-escape competence to be directly compared to future data collection utilizing the identical data collection instrument. The total estimated annualized burden hours are 67.

Estimated Annualized Burden Hours
Type of respondent | Form name | Number of respondents | Number of responses per respondent | Average burden per response (in hours)
Mine Worker | Survey | 400 | 1 | 10/60

Leroy A. Richardson,
Chief, Information Collection Review Office, Office of Scientific Integrity, Office of the Associate Director for Science, Office of the Director, Centers for Disease Control and Prevention.

[FR Doc. 2016-13571 Filed 6-7-16; 8:45 am]

BILLING CODE 4163-18-P